DEPARTMENT OF AGRICULTURE

Forest Service

Eldorado National Forest, Georgetown Ranger District, Georgetown, CA; Notice of Intent To Prepare a Supplement to the Rock Creek Recreational Trails Final Environmental Impact Statement

AGENCY: Forest Service, USDA.

ACTION: Notice of intent to prepare a supplemental environmental impact statement.

SUMMARY: The Forest Service will prepare a supplement to the 1999 Rock Creek Recreational Trails EIS. The supplement will be limited to the cumulative environmental effects on the Pacific Deer Herd. Specifically, the supplement will analyze the cumulative effects of the existing proposed action and all alternatives, in combination with past, present and reasonably foreseeable future actions, as bounded by the mapped range of the Pacific Deer Herd.

DATES: Scoping is not required for supplements to environmental impact statements (40 CFR 1502.9(c)4(4)). The draft supplemental environmental impact statement is expected to be issued in January 2006 and the final supplemental environmental impact statement is expected June 2006. Comments on the draft supplemental environmental impact statement must be received by 45 days after publication.

ADDRESSES: Send written comments to Tim Dabney, District Ranger, Georgetown Ranger Station, 7600 Wentworth Springs Road, Georgetown, CA 95634, Attn: Rock Creek Supplement.

FOR FURTHER INFORMATION CONTACT: Charis Parker, District Wildlife Biologist and Interdisciplinary Team Leader, Georgetown Ranger Station at (530) 333-4312, FAX (530) 333-5522, or by e-mail to cparker@fs.fed.us.

SUPPLEMENTARY INFORMATION:

Background

The Rock Creek area encompasses approximately 23,600 acres of public lands centered about five miles to the southeast of the town of Georgetown, CA. Historic uses of mining, logging, and cattle grazing created roads and trails throughout the area to access both public and private lands. Recreational use of these routes, including horseback riding, hiking, fishing, off-highway vehicle (OHV) travel, and mountain biking, has occurred in the area since at least the late 1950s. In 1987, the Forest Service issued Decision Notice and Finding of No Significant Impact on the Rock Creek Off-Road Vehicle Use Environmental Assessment (EA), to better manage recreational use. The decision was challenged in court and the Forest Service was ordered in 1989 to prepare an Environmental Impact Statement (EIS) [Friends Aware of Wildlife Needs (FAWN) vs. United States Department of Agriculture, et al., Civ. S-88-214 LKK (E.D. California)]. The Rock Creek Recreational Trails Draft EIS was first published in 1996 with a Revised Draft EIS being published in 1997 based on comments received. The Rock Creek Recreational Trails Final EIS and Record of Decision was issued in 1999 implementing Alternative 6—Resource Protection and Recreation Opportunities.

In February 2002, a lawsuit was filed against the Forest Service that, among other OHV-related issues on the Eldorado National Forest, alleged the cumulative effects analysis conducted for the 1999 Rock Creek Recreational Trails Environmental Impact Statement and Record of Decision was inadequate. On February 15, 2005, Judge Lawrence K. Karlton, United States District Court (Eastern District of California), issued a finding [Center for Sierra Nevada Conservation, et al., v. John Berry, Eldorado National Forest Supervisor, et al., CIV-S-02-0325 LKK/JFM (E.D. California)] that the cumulative effects analysis was indeed inadequate, particularly in regard to the Pacific Deer Herd. More specifically, Judge Karlton found that the cumulative impacts analysis area was incorrectly limited to the Rock Creek project area and that “other activities,” including grazing, within the deer herd's entire range, were not analyzed in sufficient detail to adequately determine the cumulative impacts of the proposed action on the deer herd. On August 16, 2005, Judge Karlton issued his order that a supplement to the Rock Creek Recreational Trails Environmental Impact Statement be prepared as specified in its February 15, 2005 finding.

Purpose and Need for Action

Because this supplement is limited to a cumulative effects analysis for the Pacific Deer Herd, the purpose and need for action remain the same as was described in the 1997 Rock Creek Recreational Trails Revised Draft Environmental Impact Statement (RDEIS). “The need for the Proposed Action arises from continuing conflicts over how the trails in the Rock Creek Area should be managed and the impacts of trail use on the natural resources * * * The purpose or goal in designing the trail system, designated uses, and resource protection measures is to provide a quality recreation experience for all trail users, while minimizing conflicts between the trail users and adjacent landowners, providing protection of natural resources, and promoting safety.” (Rock Creek Recreational Trails RDEIS, page 1-3)

Proposed Action

The proposed action and all alternatives will also remain the same as was described in the 1997 Rock Creek Recreational Trails Revised Draft Environmental Impact Statement. Six alternatives were analyzed in the original RDEIS to address the Purpose and Need including: (1) No Action—continue with current trail system and management plan; (2) No OHV Use; (3) Increased Multiple Use Recreation—all trail uses allowed on predominantly shared-use trails with reduced closure periods; (4) Separated Multiple Use Recreation—all trail uses allowed but uses segregated to some extent to reduce conflicts between different use types; (5) Reduced Multiple Use Recreation—all trail uses allowed, but trail mileages reduced and closures increased; and (6) Resource Protection and Recreation Opportunities (preferred alternative)—all trail uses allowed in a manner that attempts to find an optimal balance of resource protection and opportunity for a quality recreation experience.

Responsible Official

John Berry, Forest Supervisor, Eldorado National Forest, 100 Forni Road, Placerville, CA, 95667.

Nature of Decision To Be Made

The responsible official will decide, based on the cumulative effects analysis for the Pacific Deer Herd in the supplement, whether to confirm the decision in the 1999 ROD or choose another alternative. This will be documented in a new Record of Decision.

Comment Requested

A legal notice will be published in the newspaper of record and a Notice of Availability will be published in the Federal Register to inform the public that supplemental information is available for review and comment. The draft supplemental environmental impact statement will be distributed to all parties that received the 1999 final environmental impact statement.

Early Notice of Importance of Public Participation in Subsequent Environmental Review: A draft supplemental environmental impact statement will be prepared for comment. The comment period on the draft supplemental environmental impact statement will be 45 days from the date the Environmental Protection Agency publishes the notice of availability in the Federal Register.

The Forest Service believes, at this early stage, it is important to give reviewers notice of several court rulings related to public participation in the environmental review process. First, reviewers of draft supplemental environmental impact statements must structure their participation in the environmental review of the proposal so that it is meaningful and alerts an agency to the reviewer's position and contentions. Vermont Yankee Nuclear Power Corp. v. NRDC, 435 U.S. 519, 553 (1978). Also, environmental objections that could be raised at the draft supplemental environmental impact statement stage but that are not raised until after completion of the final supplemental environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final supplemental environmental impact statement.

To assist the Forest Service in identifying and considering issues and concerns on the proposed action, comments on the draft supplemental environmental impact statement should be as specific as possible. It is also helpful if comments refer to specific pages or chapters of the draft supplemental statement. Comments may also address the adequacy of the draft supplemental environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: October 3, 2005.
John D. Berry,
Forest Supervisor, Eldorado National Forest.

[FR Doc. 05-20699 Filed 10-14-05; 8:45 am]

BILLING CODE 3410-11-P